DEPARTMENT OF STATE

[Public Notice 8532]

Shipping Coordinating Committee; Notice of Committee Meeting

The Shipping Coordinating Committee (SHC) will conduct an open meeting at 9:00 a.m. on Thursday, January 9, 2014, in Alexander Hamilton Room on the 9th floor of the Ballston Common Plaza, 4200 Wilson Blvd., Arlington, VA 20598-7200. The USCG Offices in the Ballston Commons Plaza are located above the Ballston Common Mall. The primary purpose of the meeting is to prepare for the first Session of the International Maritime Organization's (IMO) Sub-Committee on Ship Design and Construction to be held at the IMO Headquarters, United Kingdom, January 20-24, 2014.

The agenda items to be considered include:

—Adoption of the agenda

—Decisions of other IMO bodies

—Development of a mandatory Code for ships operating in polar waters

—Development of provisions to ensure the integrity and uniform implementation of the 1969 TM Convention

—Development of second-generation intact stability criteria

—Review of the damage stability regulations for ro-ro passenger ships

—Revision of SOLAS chapter II-1 subdivision and damage stability regulations

—Development of guidelines on safe return to port for passenger ships

—Amendments to SOLAS regulation II-1/11 and development of associated guidelines to ensure the adequacy of testing arrangements for watertight compartments

—Development of amendments to the 2011 ESP Code

—Development of guidelines for use of Fibre Reinforced Plastic (FRP) within ship structures

—Development of amendments to SOLAS chapter II-2, the FTP Code and MSC/Circ.1120 to clarify the requirements for plastic pipes on ships

—Review of the recommendation on evacuation analysis for new and existing passenger ships

—Development of amendments to the criterion for maximum angle of heel in turns of the 2008 IS Code

—Development of amendments to part B of the 2008 IS Code on towing, lifting and anchor-handling operations

—General cargo ship safety

—Development of an interpretation of SOLAS regulation II-1/13.6 on means of escape from ro-ro cargo spaces

—Classification of offshore industry vessels and consideration of the need for a non-mandatory Code for offshore construction support vessels

—Carriage of more than 12 industrial personnel on board vessels engaged in international voyages

—Development of guidelines for wing-in-ground craft

—Consideration of IACS unified interpretations

—Biennial agenda and provisional agenda for SDC 2

—Election of Chairman and Vice-Chairman for 2015

—Any other business

—Report to the Maritime Safety Committee

Members of the public may attend this meeting up to the seating capacity of the room. To facilitate the building security process, and to request reasonable accommodation, those who plan to attend should contact the meeting coordinator, LCDR Catherine Phillips, by email at catherine.a.phillips@uscg.mil, by phone at (202) 372-1374, by fax at (202) 372-1925, or in writing at Commandant (CG-ENG-2), U.S. Coast Guard, 2703 Martin Luther King Jr. Ave. SE., Stop 7509, Washington, DC 20593-7509 not later than January 2, 2014, 7 days prior to the meeting. Requests made after January 2, 2014, might not be able to be accommodated. Please note that due to security considerations, two valid, government issued photo identifications must be presented to gain entrance to USCG Offices. This location is accessible by taxi, privately owned conveyance, and public transportation (located near the Ballston Metro Station). Additional information regarding this and other IMO SHC public meetings may be found at: www.uscg.mil/imo.

Dated: November 14, 2013.
Marc Zlomek,
Executive Secretary, Shipping Coordinating Committee, Department of State.

[FR Doc. 2013-28231 Filed 11-22-13; 8:45 am]

BILLING CODE 4710-09-P